DEPARTMENT OF ENERGY

Federal Energy Regulatory Commission

[Docket No. RP04-73-000]

El Paso Natural Gas Company; Notice of Proposed Changes in FERC Gas Tariff

December 2, 2003.

Take notice that on November 25, 2003, El Paso Natural Gas Company (El Paso) tendered for filing as part of its FERC Gas Tariff, the following tariff sheets to become effective January 1, 2004:

Second Revised Volume No. 1-A

Twenty-Eighth Revised Sheet No. 20

Fifth Revised Sheet No. 21

Twenty-Second Revised Sheet No. 22

Twenty-Seventh Revised Sheet No. 23

Thirty-Fifth Revised Sheet No. 24

Twenty-Eighth Revised Sheet No. 26

Twenty-Eighth Revised Sheet No. 27

Second Revised Sheet No. 113D

Seventh Revised Sheet No. 117

Ninth Revised Sheet No. 118

Second Revised Sheet No. 118A

Third Revised Volume No. 2

Fifty-Fourth Revised Sheet No. 1-D.2

Forty-Eighth Revised Sheet No. 1-D.3

El Paso states that the above tariff sheets are being filed to adjust its Base Rates and Effective Unit Rates for inflation in accordance with its tariff, and to update the Partial Demand Charge Credit.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00469 Filed 12-5-03; 8:45 am]

BILLING CODE 6717-01-P